DEPARTMENT OF AGRICULTURE

Forest Service

Hood-Willamette Resource Advisory Committee

AGENCY: Forest Service, USDA.

ACTION: Notice of meeting.

SUMMARY: The Hood-Willamette Resource Advisory Committee (RAC) will meet in Salem Oregon. The committee is authorized under the Secure Rural Schools and Community Self-Determination Act (the Act) and operates in compliance with the Federal Advisory Committee Act. The purpose of the committee is to improve collaborative relationships and to provide advice and recommendations to the Forest Service concerning projects and funding consistent with Title II of the Act. Additional RAC information, including the meeting agenda and the meeting summary/minutes can be found at the following Web site: http://www.fs.usda.gov/detail/willamette/workingtogether/advisorycommittees/?cid=STELPRDB504843.

DATES: The meeting will be held on August 27, 2015, beginning at 10 a.m.

All RAC meetings are subject to cancellation. For status of meeting prior to attendance, please contact the person listed under FOR FURTHER INFORMATION CONTACT.

ADDRESSES: The meeting will be held at the Salem Bureau of Land Management Office, 1717 Fabry Road Southeast, Salem, Oregon. The meeting will be held in the lobby level conference room to the left of the front desk.

Written comments may be submitted as described under SUPPLEMENTARY INFORMATION. All comments, including names and addresses when provided, are placed in the record and are available for public inspection and copying. The public may inspect comments received at Salem Oregon. Please call ahead to facilitate entry into the building.

FOR FURTHER INFORMATION CONTACT: Kent Wellner, RAC Designated Federal Offcier, by phone at 541-225-6301 or via email at kwellner@fe.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Reintroduce all the RAC members to one another;

2. Review the rules and regulations surrounding the Secure Rural School Title II process; and

3. Make decisions on proposals submitted for FY2015 Title II funds.

The meeting is open to the public. The agenda will include time for people to make oral statements of three minutes or less. Individuals wishing to make an oral statement should request in writing by August 20th, 2015, to be scheduled on the agenda. Anyone who would like to bring related matters to the attention of the committee may file written statements with the committee staff before or after the meeting. Written comments and requests for time for oral comments must be sent to Kent Wellner, Designated Federal Officer, 3106 Pierce Parkway, Suite D, Springfield, Oregon, 97477; by email to kwellner@fs.fed.us, or via facsimile to 541-225-6228.

Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: July 31, 2015.
Tracy Beck,
Forest Supervisor.

[FR Doc. 2015-19315 Filed 8-5-15; 8:45 am]

BILLING CODE 3411-15P